AGENCY FOR INTERNATIONAL DEVELOPMENT

Notice of Meeting

Pursuant to the Federal Advisory Committee Act, notice is hereby given that the meeting of the Advisory Committee on Voluntary Foreign Aid (ACVFA) scheduled for Wednesday, March 31, 2010 has been rescheduled.

Date: Wednesday, April 21, 2010 (9 a.m. to 3 p.m., times may be adjusted).

Location: Jack Morton Auditorium, Media and Public Affairs Building, George Washington University, 805 21st Street, NW., Washington, DC 20052.

Please note that this is the anticipated agenda and is subject to change.

Keynote

The Administrator will present an update from the front office of USAID, presenting his vision of USAID's role in the development world, plus an update on the Haiti humanitarian efforts.

There will also be a panel discussion on innovating to 2015 and accelerating development through science, technology and innovation.

Stakeholders

The meeting is free and open to the public. Persons wishing to attend the meeting can register online at http://www.usaid.gov/about_usaid/acvfa. For additional information, Ben Hubbard, the Executive Director, can be reached at acvfa@aid.gov or 202-712-4040.

Dated: March 10, 2010.
Deborah Lewis,
U.S. Agency for International Development.

[FR Doc. 2010-6032 Filed 3-18-10; 8:45 am]

BILLING CODE 6116-01-P